ENVIRONMENTAL PROTECTION AGENCY

[EPA-HQ-OPP-2022-0509; FRL-7661-02-OCSPP]

Notice of Approval Status; Certifying Authorities' Amended Plans for Certification of Commercial and Private Applicators of Restricted Use Pesticides; Batch Two

AGENCY: Environmental Protection Agency (EPA).

ACTION: Notice.

SUMMARY: The Environmental Protection Agency (EPA) is announcing its approval of twelve amended certification plans for certifying applicators of Restricted Use Pesticides (RUPs) from the following certifying authorities: Arizona Department of Agriculture (AZDA), Connecticut Department of Energy & Environmental Protection (CTDEEP), Delaware Department of Agriculture (DDA), District of Columbia Department of Energy and Environment (DOEE), Hawaii Department of Agriculture (HDOA), Mississippi Department of Agriculture and Commerce (MDAC), New Hampshire Department of Agriculture, Markets and Food (NHDAFM), New Jersey Department of Agriculture (NJDEP), Nevada Department of Agriculture (NDA), Office of the Indiana State Chemist (OISC), South Dakota Department of Agriculture and Natural Resources (SDDANR), and Washington State Department of Agriculture (WSDA). The amended plans are consistent with the existing regulatory requirements, including revisions made in 2017 to enhance and improve the competency of certified applicators of RUPs and persons working under their direct supervision. The 2017 regulatory revisions are intended to further reduce potential exposure of RUPs to certified applicators and those working under their direct supervision, other workers, the public, and the environment. Federal, state, territory, and tribal certifying authorities with existing certification plans were required to revise their existing plans to conform with the updated federal standards for RUP applicator certification and receive EPA approval by the established regulatory deadline.

FOR FURTHER INFORMATION CONTACT:

For technical information contact: The designated EPA point of contact for the Certification Plan of interest as listed in Table 1 of Unit I.B.

For general information contact: Carolyn Schroeder, Pesticide Re-Evaluation Division (7508M), Office of Pesticide Programs, Environmental Protection Agency, 1200 Pennsylvania Ave. NW, Washington, DC 20460-0001; telephone number: (202) 566-2376; email address: schroeder.carolyn@epa.gov.

SUPPLEMENTARY INFORMATION:

I. General Information

A. Does this action apply to me?

You may be potentially affected by this action if you are a federal, state, territory, or tribal agency who administers a certification program for pesticides applicators. You many also be potentially affected by this action if you are: A registrant of RUP products; a person who applies RUPs, including those under the direct supervision of a certified applicator; a person who relies upon the availability of RUPs; someone who hires a certified applicator to apply an RUP; a pesticide safety educator; or other person who provides pesticide safety training for pesticide applicator certification or recertification. The following list of North American Industrial Classification System (NAICS) codes is not intended to be exhaustive, but rather provides a guide to help readers determine whether this document applies to them. Potentially affected entities may include:

• Agricultural Establishments (Crop Production) (NAICS code 111).

• Nursery and Tree Production (NAICS code 111421).

• Agricultural Pest Control and Pesticide Handling on Farms (NAICS code 115112).

• Crop Advisors (NAICS codes 115112, 541690, 541712).

• Agricultural (Animal) Pest Control (Livestock Spraying) (NAICS code 115210).

• Forestry Pest Control (NAICS code 115310).

• Wood Preservation Pest Control (NAICS code 321114).

• Pesticide Registrants (NAICS code 325320).

• Pesticide Dealers (NAICS codes 424690, 424910, 444220).

• Industrial, Institutional, Structural & Health Related Pest Control (NAICS code 561710).

• Ornamental & Turf, Rights-of-Way Pest Control (NAICS code 561730).

• Environmental Protection Program Administrators (NAICS code 924110).

• Governmental Pest Control Programs (NAICS code 926140).

If you have any questions regarding the applicability of this action to a particular entity, consult the person listed under FOR FURTHER INFORMATION CONTACT.

B. How can I get copies of these documents and other related information?

For assistance in locating documents related to the approved plans identified in this notice, please consult the designated EPA point of contact for the Certification Plan of interest as listed in Table 1 of this unit, or the general contact person listed under FOR FURTHER INFORMATION CONTACT.

Table 1—Designated EPA Point of Contacts for the Certification Plans
EPA region | Certification plan | EPA point of contact | POC phone | Email
Region 1 | CTDEEP NHDAFM | Robert Koethe | (617) 918-1535 | koethe.robert@epa.gov.
Region 2 | NJDEP | Tara Glynn | (732) 906-6183 | glynn.tara@epa.gov.
Region 3 | DDA DOEE | Courtenay Hoernemann | (215) 814-2216 | hoernemann.courtenay@epa.gov.
Region 4 | MDAC | Richard Corbett | (404) 562-9008 | corbett.richard@epa.gov.
Region 5 | OISC | Donald Baumgartner | (312) 886-7835 | baumgartner.donald@epa.gov.
Region 8 | SDDANR | Blake Huff | (303) 312-6718 | huff.blake@epa.gov.
Region 9 | AZDA HDOA NDA | Katy Wilcoxen | (415) 947-4205 | wilcoxen.katy@epa.gov.
Region 10 | WSDA | Bethany Plewe | (208) 378-5753 | plewe.bethany@epa.gov.

II. What is the Agency's authority for taking this action?

Section 11 of the Federal Insecticide, Fungicide, Rodenticide Act (FIFRA), 7. U.S.C. 136 et seq., requires certifying authorities to have an EPA-approved certification plan to certify applicators of RUPs. The Certification of Pesticide Applicators (CPA) regulation at 40 CFR part 171 was amended in 2017 (Ref. 1). As a result, federal, state, territory, and tribal certifying authorities with existing certification plans were required to revise their existing certification plans to conform with the updated federal standards for the certification of applicators of RUPs and submit their revisions to EPA by March 2020 for EPA review and approval. The CPA regulation specifies that the existing certification plans remain in place until the revised plans are approved by EPA on or before the regulatory deadline established in 40 CFR 171.5. The Agency has since issued a final rule extending the original deadline for certification plans to comply with the updated federal standards under the 2017 CPA rule to November 4, 2023 (Ref. 2).

III. What action is the Agency taking?

This action gives notice that the following twelve certifying authorities' certification plans submitted to the Agency meet or exceed the standards of 40 CFR part 171: AZDA, CTDEEP, DDA, DOEE, HDOA, MDAC, NDA, NHDAFM, NJDEP, OISC, SDDANR, and WSDA. EPA hereby gives notice that the twelve amended certification plans for certifying applicators of RUPs listed in this document are now approved plans; the certifying authorities may certify pesticide applicators and continue with implementation of the certification plans as outlined in the approved plans.

These twelve plans represent the second in a series of batched notifications announcing the approval of the federal, state, territory, and tribal certification plans moving through the approval process. These batched notifications will continue to occur on a regular basis as plans are approved. EPA also provides frequent status updates regarding the reviews and approvals of state and territory certification plans on its website at https://www.epa.gov/pesticide-worker-safety/certification-standards-pesticide-applicators.

IV. References

The following is a list of documents that are related to the issuance of this Notice. For assistance in locating these other documents, please consult the person listed under FOR FURTHER INFORMATION CONTACT.

1. EPA. Pesticides; Certification of Pesticide Applicators; Final Rule. Federal Register. 82 FR 952, January 4, 2017 (FRL-9956-70).

2. EPA. Pesticides; Certification of Pesticide Applicators; Further Extension to Expiration Date of Certification Plans; Final Rule. Federal Register. 87 FR 50953, August 19, 2022 (FRL-9134.1-04-OCSPP).

Authority: 7 U.S.C. 136-136y.

Dated: March 24, 2023.
Mary Elissa Reaves,
Director, Pesticide Re-Evaluation Division, Office of Pesticide Programs.

[FR Doc. 2023-06571 Filed 3-29-23; 8:45 am]

BILLING CODE 6560-50-P